DEPARTMENT OF AGRICULTURE

National Institute of Food and Agriculture

Notice of Intent To Reinstate a Previously Approved Information Collection

AGENCY: National Institute of Food and Agriculture, USDA.

ACTION: Notice and request for comments.

SUMMARY: The National Institute of Food and Agriculture, as part of its continuing effort to reduce paperwork and respondent burden, invites the general public to take this opportunity to comment on the “Generic Clearance for the Collection of Qualitative Feedback on Agency Service Delivery” for approval under the Paperwork Reduction Act (PRA). This collection was developed to create a vehicle for obtaining stakeholder feedback and was previously approved in 2017. The collection approval expired on June 30, 2020. This notice announces our intent to revise and re-submit this collection to Office of Management and Budget for approval and solicits comments on specific aspects for the proposed information collection.

DATES: Written comments on this notice must be received by August 1, 2022 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Robert Martin, 202-445-5388, Robert.martin3@usda.gov.

SUPPLEMENTARY INFORMATION: Title of Collection: Generic Clearance for the Collection of Qualitative Feedback on Agency Service Delivery.

OMB Control Number: 0524-0051.

Expiration Date of Current Approval: 06/30/2020.

Type of Request: Notice of intent to reinstate and revise a previously approved information collection. The burden for this collection remains unchanged.

NIFA is requesting approval to reinstate a previously approved, but expired, information collection.

Abstract: The National Institute of Food and Agriculture (NIFA), U.S. Department of Agriculture, oversees roughly $1.7 billion to fund research, education, and extension efforts in a wide range of scientific fields related to agricultural and behavioral sciences. NIFA achieves its mission through partnerships with Land-Grant Universities (LGU), non-profit organizations, private sector firms, and other government agencies. These partners, through research, education, and extension activities, help NIFA and USDA address highly complex and multidimensional challenges in food and agriculture. To ensure that our programs address the Nation's food and agricultural priorities, and our processes minimize burden without jeopardizing accountability, NIFA seeks OMB approval of a generic clearance to collect qualitative feedback on our service delivery. By qualitative feedback, we mean information that provides insights on perceptions and opinions but are not statistical surveys or quantitative results that can be generalized to the population of study.

This collection of information is necessary to enable NIFA, herein “the Agency,” to garner feedback from customers, stakeholders, and partners (herein “stakeholders”) in an efficient and timely manner, and in accordance with our commitment to providing the highest quality service delivery.

The information collected from our stakeholders will help NIFA identify emerging and significant priorities in food and agriculture; refine NIFA's business processes; and promote inclusiveness and diversity to ensure that NIFA drives outcomes that meet the needs of all Americans.

Improving agency programs requires ongoing assessment of NIFA's programs and processes, by which we mean systematic review of the operation of a program compared to a set of explicit or implicit standards. NIFA will collect, analyze, and interpret information gathered through this generic clearance to identify strengths and weaknesses of current services and make improvements based on stakeholder feedback.

If this information is not collected, NIFA's ability to respond to stakeholders' needs and continuously improve programs and services will be greatly diminished.

The solicitation of feedback will target areas in: Strategic, portfolio, and programmatic planning; competitive and non-competitive awards processes; post-award management; information technology systems and websites; and, grants management training. Responses will inform efforts to improve or maintain the quality of service offered to the public.

The Agency will only submit a collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future;

• Information gathered will be used only internally for general service improvement and program management purposes and is not intended for release outside of the agency;

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

Estimated Number of Respondents: 11,250.

Below we provide projected average estimates for the next three years:

Average Expected Annual Number of activities: 15.

Average number of Respondents per Activity: 750.

Annual responses: 11,250.

Frequency of Response: Once per request.

Average minutes per response: 30.

Burden hours: 5,625.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this day of May 13, 2022.
Dionne Toombs,
Acting Director, National Institute of Food and Agriculture, U.S. Department of Agriculture.

[FR Doc. 2022-11747 Filed 5-31-22; 8:45 am]

BILLING CODE P